DEPARTMENT OF TRANSPORTATION

Federal Aviation Administration

14 CFR Part 39

[Docket No. 2001-NM-146-AD; Amendment 39-12320; AD 2001-14-09]

RIN 2120-AA64

Airworthiness Directives; Cessna Model 560XL Airplanes

AGENCY: Federal Aviation Administration, DOT.

ACTION: Final rule; request for comments.

SUMMARY: This amendment adopts a new airworthiness directive (AD) that is applicable to certain Cessna Model 560XL airplanes. This action requires inspection of certain electrical wiring of the landing light switch, associated components, and the aft J-box fairing light relay wire for chafing, discoloration, or damage; rerouting of certain wiring; and corrective follow-on actions, if necessary. This action is necessary to prevent shorting to the ground of the electrical power due to chafing of wiring, which could result in electrical fire in the wiring of the landing light switch, associated components, and the wiring of the aft J-box fairing light relays. This action is intended to address the identified unsafe condition.

DATES: Effective July 26, 2001.

The incorporation by reference of certain publications listed in the regulations is approved by the Director of the Federal Register as of July 26, 2001.

Comments for inclusion in the Rules Docket must be received on or before September 10, 2001.

ADDRESSES: Submit comments in triplicate to the Federal Aviation Administration (FAA), Transport Airplane Directorate, ANM-114, Attention: Rules Docket No. 2001-NM-146, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-146-AD” in the subject line and need not be submitted in triplicate. Comments sent via the Internet as attached electronic files must be formatted in Microsoft Word 97 for Windows or ASCII text.

The service information referenced in this AD may be obtained from Cessna Aircraft Co., P.O. Box 7706, Wichita, Kansas 67277. This information may be examined at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Raymond Johnston, Aerospace Engineer, Systems and Propulsion Branch, ACE-116W, FAA, Wichita Aircraft Certification Office, 1801 Airport Road, Room 100, Mid-Continent Airport, Wichita, Kansas 67209; telephone (316) 946-4151; fax (316) 946-4407.

SUPPLEMENTARY INFORMATION: The FAA has received a report of an electrical fire on the left landing light switch on the cockpit pedestal of a Cessna Model 560XL airplane. Investigation revealed that a wire bundle was burned approximately eight inches below the landing light switch and that the switch was overheated and damaged. The investigation also revealed that wires from KZ041 in the J-box (a terminal located below the mounting plate for power relays) had shorted to the battery bus. The findings of the investigation indicated that incorrect routing of certain wiring had resulted in chafing of certain wiring. Such chafing of wiring could cause shorting to the ground of the electrical power and result in electrical fire in the landing light switch, associated components, and the wiring of the aft J-box fairing light relays.

Explanation of Relevant Service Information

The FAA has reviewed and approved Cessna Alert Service Letter (ASL) ALS560XL-33-02, dated May 4, 2001, which describes procedures for a visual inspection to detect any chafing, discoloration, or damaged wiring of the right KZ032 and left KZ-41 light relays and any associated components, and procedures for routing the light relay wiring correctly. For any wiring or associated components that are chafed, discolored, or damaged, the ASL provides procedures for accomplishing additional follow-on inspections of certain switch assemblies and associated wiring, and replacement of any discrepant wiring or associated components. Accomplishment of the actions specified in the ASL is intended to adequately address the identified unsafe condition.

Explanation of the Requirements of the Rule

Since an unsafe condition has been identified that is likely to exist or develop on other airplanes of the same type design, this AD is being issued to prevent shorting to the ground of the electrical power due to chafing of wiring, which could result in electrical fire in the wiring of the landing light switch, associated components, and the wiring of the aft J-box fairing light relays. This AD requires accomplishment of the actions specified in the ASL described previously.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-146-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-09 Cessna Aircraft Company: Amendment 39-12320. Docket 2001-NM-146-AD.

Applicability: Model 560XL airplanes, serial numbers -5002 through -5159 inclusive, -5161, and -5165; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent shorting to ground of the electrical power due to improper routing of certain wiring, which could result in electrical fire in the wiring of the landing light switch, associated components, and wiring of the aft J-box fairing light relays; accomplish the following:

Inspection for Chafing, Discoloration, or Damaged Wiring

(a) Within 20 flight hours or 20 days after the effective date of this AD, whichever occurs first, perform a general visual inspection for any chafed, discolored or damaged wiring of the right KZ032 and left KZ-41 light relays and any associated components, per Cessna Alert Service Letter 560XL-33-02, dated May 4, 2001. If no discrepancy to the wiring or associated components is detected, before further flight, reroute the wiring of the aft J-box relay, per the alert service letter.

Note 2: For the purposes of this AD, a general visual inspection is defined as: “A visual examination of an interior or exterior area, installation, or assembly to detect obvious damage, failure, or irregularity. This level of inspection is made under normally available lighting conditions such as daylight, hangar lighting, flashlight, or droplight, and may require removal or opening of access panels or doors. Stands, ladders, or platforms may be required to gain proximity to the area being checked.”

If any Discrepant Wiring is Detected

(b) If any chafing, discoloration, or damage is detected in the wiring or the associated components as a result of the inspection required by paragraph (a) of this AD, before further flight, accomplish the requirements of paragraphs (b)(1), (b)(2), and (b)(3) of this AD, per Cessna Alert Service Letter 560XL-33-02, dated May 4, 2001.

(1) Replace the aft J-box fairing light relay wiring with new wiring and reroute the wiring.

(2) Perform a general visual inspection for any discoloration or damage of the right SC054 and left SC055 switch assemblies A3-212-01 and associated wiring. Before further flight, replace any damaged or discolored wiring or switch assembly with new wiring or a new switch assembly.

(3) Perform a general visual inspection for damage or discoloration of wiring specified in paragraph 11 of the Accomplishment Instructions of the alert service letter. Before further flight, replace any damaged or discolored wiring with new wiring.

Alternative Methods of Compliance

(c) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Cessna Alert Service Letter ASL560XL-33-02, dated May 4, 2001. This incorporation by reference was approved by the Director of the Federal Register in accordance with 5 U.S.C. 552(a) and 1 CFR part 51. Copies may be obtained from Cessna Aircraft Co., P.O. Box 7706, Wichita, Kansas 67277. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(f) This amendment becomes effective on July 26, 2001.

Issued in Renton, Washington, on July 3, 2001.
Vi L. Lipski,
Manager, Transport Airplane Directorate, Aircraft Certification Service.

[FR Doc. 01-17164 Filed 7-10-01; 8:45 am]

BILLING CODE 4910-13-P